FEDERAL RESERVE SYSTEM

Change in Bank Control Notices; Acquisition of Shares of Bank or Bank Holding Companies

The notificants listed below have applied under the Change in Bank Control Act (12 U.S.C. 1817 (j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 16, 2001.

A. Federal Reserve Bank of St. Louis (Randall C. Sumner, Vice President) 411 Locust Street, St. Louis, Missouri 63166-2034:

1. First Paris Limited Partnership, Little Rock, Arkansas; to acquire voting shares of First Paris Holding Company, Little Rock, Arkansas, and thereby indirectly acquire voting shares of The First National Bank at Paris, Paris, Arkansas.

2. Lake Hamilton Enterprises Limited Partnership, Little Rock Arkansas; to acquire voting shares of Lake Hamilton Enterprises, Inc., Little Rock, Arkansas, and thereby indirectly acquire voting shares of The Cleburne County Bank, Heber Springs, Arkansas, and The Bank of Harrisburg, Harrisburg, Arkansas.

B. Federal Reserve Bank of Minneapolis (JoAnne F. Lewellen, Assistant Vice President) 90 Hennepin Avenue, Minneapolis, Minnesota 55480-0291:

1. Jeffrey Campbell, Dunseith, North Dakota; to acquire voting shares of Security Bancshares, Inc., Dunseith, North Dakota, and thereby indirectly acquire voting shares of Security State Bank, Dunseith, North Dakota.

Board of Governors of the Federal Reserve System, December 27, 2000.
Jennifer J. Johnson
Secretary of the Board.

[FR Doc. 01-53 Filed 1-3-01; 8:45 am]

BILLING CODE 6210-01-S